DEPARTMENT OF THE INTERIOR

National Park Service

[NPS-WASO-NAGPRA-NPS0037805; PPWOCRADN0-PCU00RP14.R50000]

Notice of Inventory Completion: University of California, Santa Barbara, Repository for Archaeological and Ethnographic Collections, Santa Barbara, CA

AGENCY: National Park Service, Interior.

ACTION: Notice.

SUMMARY: In accordance with the Native American Graves Protection and Repatriation Act (NAGPRA), the University of California, Santa Barbara (UCSB), Repository for Archaeological and Ethnographic Collections has completed an inventory of associated funerary objects and has determined that there is a cultural affiliation between the associated funerary objects and Indian Tribes or Native Hawaiian organizations in this notice.

DATES: Repatriation of the associated funerary objects in this notice may occur on or after May 28, 2024.

ADDRESSES: Hugh Radde, University of California, Santa Barbara, 4129 Cheadle Hall, Santa Barbara, CA 93106-2033, telephone (805) 893-3525, email hradde@ucsb.edu.

SUPPLEMENTARY INFORMATION: This notice is published as part of the National Park Service's administrative responsibilities under NAGPRA. The determinations in this notice are the sole responsibility of the UCSB Repository for Archaeological and Ethnographic Collections, and additional information on the determinations in this notice, including the results of consultation, can be found in the inventory or related records. The National Park Service is not responsible for the determinations in this notice.

Abstract of Information Available

In 2012, UCSB Repository for Archaeological and Ethnographic reported 395 ancestors and their 3,985 associated funerary objects from Santa Barbara County, CA, Kern County, CA, and Los Angeles County, CA. The Notice of Inventory Completion was published in the Federal Register on June 12, 2012 (77 FR 34991-34997). Upon further consultation with the culturally affiliated Tribe we discovered an additional 8,250 associated funerary objects. The following inventory consists entirely of these additional AFOs which were associated with the ancestors reported in UCSB's 2012 Notice of Inventory Completion.

In 1956 and 1957, four associated funerary objects were removed from CA-SBA-53 in Santa Barbara County, CA (Accession 101). The excavation was directed by William Harrison and Norman Gabel during salvage operations associated with grading for the construction of Aerophysics Corporation buildings. The additional four associated funerary objects are one shotgun case, one lot of processed material, one lot of large groundstone fragments, and one lot of unprocessed material.

In 1958 and 1959, 247 associated funerary objects were removed from CA-SBA-1C (also known as CA-SBA-119) at Rincon Point in Santa Barbara County, CA (Accession 104). The excavation was directed by William Harrison and P. Lyons as part of Harrison's dissertation research at the University of Arizona. The additional 247 associated funerary objects are one clam disc bead, a minimum of 103 animal bones, 40 unmodified shell fragments, a minimum of 80 small pebbles, one bone bead, 19 raptor talons, one chert drill, one stone pendant, and one lot of processed material.

In the summers of 1958 and 1959, 86 associated funerary objects were removed from CA-SBA-78 at Dos Pueblos Ranch in Santa Barbara County, CA (Accession 117). The excavations were directed by William Harrison as part of a summer field school with the permission of the private land owner. The additional 86 associated funerary objects are one asphaltum fragment, one charcoal fragment, three tarring pebbles, 28 Olivella shell beads, four undifferentiated shell beads, one stone bead, one whale bone, seven flakes, a minimum of four groundstone fragments, two mano fragments, one green glass fragment, one animal tooth, one olla fragment, 17 unmodified shells, one burned animal bone, a minimum of 10 unmodified stones, one lot of processed material, one lot of unsorted material, and one large metate fragment.

In 1958 and 1959, four associated funerary objects were removed from CA-SBA-1D (also known as CA-SBA-141) at Rincon Point, in Santa Barbara County, CA (Accession 126). The excavations were led by William Harrison and P. Lyons as part of Harrison's dissertation research. The four associated funerary objects are two drills, one lot of processed material, and one lot of large groundstone fragments.

In 1963, 35 associated funerary objects were removed from CA-SBA-60 at the west end of Goleta Slough in Santa Barbara County, CA (Accession 127A). It is believed that the excavations were led by Humphrey during a UCSB field school. The 35 associated funerary objects are 21 clam shells, nine oyster shells, two scallop fragments, two unidentified shell fragments, and one chert flake.

In 1960, three associated funerary objects were removed from CA-SBA-38 in Santa Barbara County, CA (Accession 131). The salvage excavations were directed by William Harrison. The three associated funerary objects are one lot of large groundstone fragments, one lot of processed material, and one lot of unprocessed material.

In 1961, four associated funerary objects were removed from CA-SBA-167 in the Santa Ynez Valley, Santa Barbara County, CA (Accession 140). The collection was excavated by James Deetz during a UCSB summer field school. The additional four associated funerary objects are one shell bead fragment, one lot of processed material, one lot of large groundstone fragments, and one lot of unprocessed bulk material.

In 1961, 589 funerary objects were removed from CA-SBA-46 on Mescalitan Island in Santa Barbara County, CA (Accession 144). The excavation was directed by James Deetz (UCSB) and a student crew as part of a salvage archeological project. The additional 589 funerary objects are three asphaltum applicators, two shell beads, two bifaces, 483 unmodified animal bones, one core, one large fire-cracked rock, 27 flakes, one glass fragment, three groundstone fragments, one charcoal fragment, 10 modified animal bone tools, one norris top shell ornament, two serpentine pendants, four mortars, one pestle, 17 unmodified shell fragments, nine unmodified stone fragments, 14 asphaltum pieces, four tarring pebbles, one lot of processed material, and two large groundstone fragments.

In 1964, two associated funerary objects were removed from CA-SBA-51, west of Goleta Slough in Santa Barbara County, CA (Accession 156). The excavations were directed by Michael Glassow (UCSB) as part of an archaeological field school. The two associated funerary objects are one unmodified animal bone and one lot of processed material.

In 1965, three associated funerary objects were removed from CA-SBA-485 at the south end of Lake Cachuma, Santa Barbara County, CA (Accession 158). The excavations were led by Jay Rub (UCSB). The additional three associated funerary objects are one lot of processed material, one lot of soil samples, and one lot of large groundstone fragments.

In 1958 and 1959, two associated funerary objects were removed from CA-SBA-78 at Dos Pueblos Ranch in Santa Barbara County, CA (Accession 164). William Harrison directed the excavations under the auspices of an archaeological field school. The two associated funerary objects are one lot of processed material and one large mortar fragment.

In 1969, 564 associated funerary objects were removed from CA-SBA-46C on Mescalitan Island, Santa Barbara County, CA (Accession 177). The excavations were directed by Claude Warren as an archaeological field school. The 564 associated funerary objects are one lot of asphaltum fragments, two asphaltum basketry impressions, one bone awl, a minimum of 16 undifferentiated shell beads, four Olivella shell beads, two bone beads, two steatite beads, 489 unmodified bone fragments, one modified bone tube fragment, four bone tubes inlaid with shell beads, one ochre-stained bone, two lumps of charcoal, one drill, six unmodified stones, five flakes, two flake tools, one mano fragment, one large mortar mended with asphaltum, two ochre lumps, 13 projectile point fragments, one complete unmodified abalone, one lot of shell fragments, three limpet pendants, one lot of processed material, one soil sample, and one lot of unprocessed material.

In 1970, two associated funerary objects were removed from CA-SBA-51, west of Goleta Slough in Santa Barbara County, CA (Accession 181). Michael Glassow (UCSB) directed the excavations as part of an archaeological field school. The two associated funerary objects are one lot of unprocessed bulk material and one lot of large groundstone fragments.

In 1968, five funerary objects were removed from CA-SBA-60 on the north end of the Goleta Slough, Santa Barbara County, CA (Accession 182). The excavations were led by Claude Warren and a student crew. The additional five associated funerary objects are two unmodified stones, one drilled turtle shell ornament, one lot of processed material, and one lot of unmodified animal bones.

In 1971, 161 associated funerary objects were removed from CA-SBA-71 in Santa Barbara County, CA (Accession 185 & 187). The excavations were led by Claude Warren as part of an archaeological field school. The additional 161 associated funerary objects are one chert drill, two awl fragments, a minimum of 125 unmodified animal bones, one bone bead, two modified bone objects, one fire-cracked steatite fragment, five flakes, one flake tool, two groundstone objects, one small cylindrical item, three ochre pieces, four unmodified shell fragments, two Olivella shells, two soil samples, six unmodified stones, one stone tool, one lot of processed material, and one lot of unprocessed material.

In 1970, 469 funerary objects were removed from CA-SCRI-236 at Christy Ranch on Santa Cruz Island in Santa Barbara County, CA (Accession 186). The excavations were directed by Michael Glassow (UCSB) with permission from the private landowner. The 469 associated funerary objects are 430 animal bones, 13 wood fragments, one stone tool, two glass beads, one clam bead, nine Olivella shell beads, one mussel shell bead, eight chert bladelets, one asphaltum chunk, one flake, one lot of processed material, and one lot of unprocessed material.

In 1974, 3,859 associated funerary objects were removed from CA-SCRI-240 at Prisoner's Harbor on Santa Cruz Island in Santa Barbara County, CA (Accession 206). The excavations were led by Albert Spaulding (UCSB). The 3,859 funerary objects are one abalone shell bowl, two asphaltum fragments, six bone gorges, two chert cores, one ochre piece, 3,831 Olivella columellas, one pestle fragment, nine modified abalone ornaments, one shale stone, one stone tool, one lot of processed material, one lot of large groundstone fragments, one huge asphaltum chunk, and one lot of unprocessed material.

In 1974, 190 associated funerary objects were removed from CA-SCRI-328 near Forney Cove on the west end of Santa Cruz Island in Santa Barbara County, CA (Accession 209). The excavations were led by UCSB graduate student Steve Horne, under the direction of Albert Spaulding and Michael Glassow. The additional 190 associated funerary objects are one lot of asphaltum nodules, 159 undifferentiated shell beads, one bone bead, one lot of animal bones, four drills, two glass beads, three modified abalone pendants, 11 soil samples, one unmodified stone, one lot of redwood fragments, two braided sea grass fragments, one lot of unmodified seagrass, one lot of processed material, one large mortar fragment, and one lot of unprocessed material.

At an unknown date, 15 associated funerary objects were removed from CA-SBA-37, near Atascadero Creek in Santa Barbara County, CA (Accession 210). Later, at an unknown date the collection was donated to UCSB by D.E. Brown. The 15 associated funerary objects are eight sandstone manos, four quartz flakes, one sandstone pestle, one lot of processed materials, and one lot of large groundstone fragments.

In 1973, 666 associated funerary objects were removed from CA-SCRI-163 near Stanton Ranch on Santa Cruz Island in Santa Barbara County, CA (Accession 211). The salvage excavations were led by Michael Glassow and Albert Spaulding (UCSB) with the permission of the private landowner. The additional 666 associated funerary objects are one bag of ash, 15 asphaltum fragments, one abalone with asphaltum, four bladelets, 98 undifferentiated shell beads, 18 Olivella shell beads, 188 unmodified animal bones, one Island fox cranium, one bipointed gorge, one bird bone whistles, one modified bird bone tube, one lot of fish bones, one chert core, 43 stone drills, one donut stone, 267 flakes, one glass bead, one glass fragment, one groundstone fragment, one hammerstone, one metal nail, one sandstone mortar, one ochre fragment, one ochre applicator, four shell fishhooks, three stone fragments, one stone net weight, seven tarring pebbles, and one lot of processed material.

In 1973, 1,261 associated funerary objects were removed from CA-SCRI-240 near Prisoner's Harbor on Santa Cruz Island in Santa Barbara County, CA (Accession 211). The excavation was directed by Michael Glassow (UCSB). The 1,261 associated funerary objects are 12 chert bladelets, one bead, one unmodified animal bone, one swordfish bill, 263 chert cores, 946 flakes, 21 hammerstones, one metal nail, one unmodified abalone shell, 13 wood fragments, and one lot of processed material.

In 1973, 12 associated funerary objects were removed from CA-SCRI-381 on Santa Cruz Island in Santa Barbara County, CA (Accession 211). The excavation was led by Michael Glassow (UCSB) with the permission of the private land owner. The 12 associated funerary objects are five flakes and seven shell beads.

In 1976, 26 associated funerary objects were removed from CA-SCRI-382 on Santa Cruz Island in Santa Barbara County, CA (Accession 211). The excavation was directed by Michael Glassow (UCSB) with the permission of the private land owner. The 26 associated funerary objects are one bird bone whistle, one modified bird bone, one shell fishhook, 17 shell beads, one drill, one flake, and four marine mammal bones.

At an unknown date, one associated funerary object was removed from Christy's Ranch on Santa Cruz Island in Santa Barbara County, CA (Accession 211-112). In 1976, the collection was donated to UCSB. The one associated funerary object is one lot of animal bones.

In 1977, four associated funerary objects were removed from CA-KER-307, on the banks of Castaic Lake, Kern County, CA (Accession 212). The excavation was led by David Jennings of Los Angeles Community College. The additional four associated funerary objects are one bag of stones, one deer humerus fragment, one lot of unmodified animal bones, and one lot of groundstone fragments.

In or around 1928, three associated funerary objects were removed from CA-SBA-28 in Santa Barbara County, CA (Accession 227). The excavation was directed by John P. Harrington and later donated to the San Diego State University. In 1970, the collection was donated to UCSB. The three associated funerary objects are one lot of animal bone, one lot of processed material, and one lot of large groundstone fragments.

At unknown date, three associated funerary objects were removed from an archaeological site approximately located in the Vandenberg area of Santa Barbara County, CA. In 1983, the collection was donated to UCSB (Accession 248-19 and Accession 250-187, -188, -189). The three associated funerary objects are one sweat stick, one lot of abalone pendants, and one lot of Olivella beads.

In 1985, one associated funerary object was removed from Diablo Peak on Santa Cruz Island in Santa Barbara County, CA (Accession 248-33). It was collected by Robert Peterson and donated to UCSB. The one associated funerary object is a single lot of shell midden.

In 1950 and 1952, 15 associated funerary objects were removed from CA-SBA-485 at the south end of Lake Cachuma in Santa Barbara County, CA (Accession 261). The excavation was led by Martin Baumhoff under the auspices of the River Basin Surveys of the Smithsonian Institute. The 15 associated funerary objects are 12 asphaltum skirt weights, one projectile point, one lot of processed material, and one lot of unprocessed groundstone fragments.

Between 1974 and 1979, seven associated funerary objects were removed from CA-SBA-143 at Dos Pueblos High School in Santa Barbara County, CA (Accession 320). The excavations were conducted by Dos Pueblos High School. The seven associated funerary objects are one lot of animal bones, one bead, one lot of processed material, one lot of large groundstone fragments, one lot of unprocessed bulk material, one lot of unprocessed groundstone material, and one lot of column samples.

In 1983, three associated funerary objects were removed from CA-SBA-75 within Tecolote Canyon in Santa Barbara County, CA (Accession 328). Jon Erlandson recovered the surface collection during an assessment of cultural resources associated with the proposed Hyatt Regency Resort and Hotel. The three associated funerary objects are one lot of processed material, one large mortar fragment, and one lot of groundstone objects.

In 1985, four associated funerary objects were removed from CA-SBA-46G on Mescalitan Island in Santa Barbara County, CA (Accession 351). The excavation was conducted by a private firm, Scientific Resource Survey. The four associated funerary objects are one lot of column samples, one lot of processed material, one lot of unprocessed material, and one lot of midden soil.

Cultural Affiliation

Based on the information available and the results of consultation, cultural affiliation is reasonably identified by the geographical location or acquisition history of the associated funerary objects described in this notice.

Determinations

The UCSB Repository for Archaeological and Ethnographic Collections has determined that:

• The 8,250 objects described in this notice are reasonably believed to have been placed intentionally with or near individual human remains at the time of death or later as part of the death rite or ceremony.

• There is a reasonable connection between the associated funerary objects described in this notice and the Santa Ynez Band of Chumash Mission Indians of the Santa Ynez Reservation, California.

Requests for Repatriation

Written requests for repatriation of associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after May 28, 2024. If competing requests for repatriation are received, the UCSB Repository for Archaeological and Ethnographic Collections must determine the most appropriate requestor prior to repatriation. Requests for joint repatriation of the associated funerary objects are considered a single request and not competing requests. The UCSB Repository for Archaeological and Ethnographic Collections is responsible for sending a copy of this notice to the Indian Tribes and Native Hawaiian organizations identified in this notice.

Authority: Native American Graves Protection and Repatriation Act, 25 U.S.C. 3003, and the implementing regulations, 43 CFR 10.10.

Dated: April 15, 2024.
Melanie O'Brien,
Manager, National NAGPRA Program.

[FR Doc. 2024-08873 Filed 4-24-24; 8:45 am]

BILLING CODE 4312-52-P